DEPARTMENT OF ENERGY

Federal Energy Regulatory Commission

Combined Notice of Filings #1

Take notice that the Commission received the following electric rate filings:

Docket Numbers: ER10-2639-002; ER11-2200-002; ER12-1716-001.

Applicants: Noble Americas Gas & Power Corp., Noble Americas Energy Solutions LLC, Your Energy Holdings, LLC.

Description: Noble Americas Gas & Power Corp., et al. submit revised Asset Appendix A.

Filed Date: 9/7/12.

Accession Number: 20120907-5238.

Comments Due: 5 p.m. ET 9/28/12.

Docket Numbers: ER12-1280-001.

Applicants: Wolverine Creek Energy LLC.

Description: Wolverine Creek Energy LLC submits tariff filing per 35: Compliance Filing of Amended Common Facilities Agreement to be effective 9/7/2012.

Filed Date: 9/13/12.

Accession Number: 20120913-5031.

Comments Due: 5 p.m. ET 10/4/12.

Docket Numbers: ER12-1281-001.

Applicants: Wolverine Creek Goshen Interconnection LLC.

Description: Wolverine Creek Goshen Interconnection LLC submits tariff filing per 35: Compliance Filing of Amended Common Facilities Agreement to be effective 9/7/2012.

Filed Date: 9/13/12.

Accession Number: 20120913-5032.

Comments Due: 5 p.m. ET 10/4/12.

Docket Numbers: ER12-2127-002.

Applicants: ITC Midwest LLC.

Description: Amendment Filing of ITC Midwest to be effective 8/28/2012.

Filed Date: 9/12/12.

Accession Number: 20120912-5136.

Comments Due: 5 p.m. ET 10/3/12.

Docket Numbers: ER12-2618-000.

Applicants: Southern California Edison Company.

Description: GIA and Distribution Serv Agmt SunEdison Utility Solutions LLC S. Dupont Project to be effective 9/14/2012.

Filed Date: 9/13/12.

Accession Number: 20120913-5017.

Comments Due: 5 p.m. ET 10/4/12.

Docket Numbers: ER12-2619-000.

Applicants: Eligo Energy, LLC.

Description: Eligo Energy, LLC submits tariff filing per 35.12: Initial Eligo Energy Market Based Rate Filing to be effective 11/15/2012.

Filed Date: 9/13/12.

Accession Number: 20120913-5030.

Comments Due: 5 p.m. ET 10/4/12.

Docket Numbers: ER12-2620-000.

Applicants: Idaho Power Company.

Description: Idaho Power Company submits tariff filing per 35.13(a)(2)(iii: September 2012 Baseline Filing Correction (Attachment K) to be effective 1/7/2011.

Filed Date: 9/13/12.

Accession Number: 20120913-5036.

Comments Due: 5 p.m. ET 10/4/12.

Docket Numbers: ER12-2621-000.

Applicants: Wolverine Power Supply Cooperative, Inc.

Description: Wolverine Power Supply Cooperative, Inc. submits tariff filing per 35: Re-File -Amend Filing FERC Rate Schedules 1, 2 and 3 to be effective 9/13/2012.

Filed Date: 9/13/12.

Accession Number: 20120913-5044.

Comments Due: 5 p.m. ET 10/4/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 13, 2012.
Nathaniel J. Davis, Sr.,
Deputy Secretary.

[FR Doc. 2012-23184 Filed 9-19-12; 8:45 am]

BILLING CODE 6717-01-P